DEPARTMENT OF HOUSING AND URBAN DEVELOPMENT

[Docket No. FR-7055-N-01]

60-Day Notice of Proposed Information Collection: Ginnie Mae Mortgage-Backed Securities Programs; OMB Control No.: 2503-0033

AGENCY: Ginnie Mae, Housing and Urban Development (HUD).

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: August 8, 2022.

ADDRESSES: Interested persons are invited to submit comments regarding this proposal. Comments should refer to the proposal by name and/or OMB Control Number and should be sent to: Anna P. Guido, Reports Management Officer, REE, Department of Housing and Urban Development, 451 7th Street SW, Room 4176, Washington, DC 20410-5000; telephone 202-402-5534 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, REE, Department of Housing and Urban Development, 451 7th Street SW, Washington, DC 20410; email Anna P. Guido at Anna.P.Guido@hud.gov or telephone 202-402-5535. This is not a toll-free number. Persons with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

A. Overview of Information Collection

Title of Information Collection: Ginnie Mae Mortgage-Backed Securities Programs Schedule of Subscribers and Ginnie Mae Guaranty Agreement.

OMB Approval Number: 2503-0033.

New/Renewal: Renewal.

Form Number: HUD-11705.

The information needed by Ginnie Mae for the participation of issuers/customers in its Mortgage-Backed Securities programs and to monitor performance and compliance with established rules and regulations.

Description of the need for the information and proposed use: This form must be used by the issuer to submit pool or loan packages in either an electronic format, a paper format, or manual import using Single Family Pool Delivery Module (SFPDM) or GinnieNET. Ginnie Mae Issuers will deliver pool and loan data in Extensible Markup Language (XML) format based on MISMO Version 3.3. This new file format will replace the existing GinnieNET Single Family Flat File Layout that is currently submitted to Ginnie Mae, to better align with industry standards. Each time the issuer issues a new security, it agrees that the applicable Guaranty Agreement is in effect on the issue date of the securities and that it will govern all of the issuer's outstanding pool and loan packages, pooled mortgages, and securities whether created under the Ginnie Mae I MBS program or the Ginnie Mae II MBS program. The pool will vary as to the amount of each certificate, certificate holder, and the number of certificates for each holder. The data provided on this form is the basis for the preparation of the securities issued under each Ginnie Mae MBS pool. Upon receipt of the form, Bank of New York Mellon reviews the information submitted in conjunction with other documentation required for the issuance of MBS securities. The approval of this form enables the actual preparation of the securities to be issued.

Title of Information Collection: Ginnie Mae Mortgage-Backed Securities Programs Schedule of Pooled Mortgages.

OMB Approval Number: 2503-0033.

New/Renewal: Renewal.

Form Number: HUD-11706.

The information needed by Ginnie Mae for the participation of issuers/customers in its Mortgage-Backed Securities programs and to monitor performance and compliance with established rules and regulations.

Description of the need for the information and proposed use: This form is used by the issuers when using an electronic format, a paper format or manual entry to submit pools to Ginnie Mae's pool processing agent, Single Family Pool Delivery Module (SFPDM). By utilizing SFPDM, Ginnie Mae Issuers will deliver pool and loan data in Extensible Markup Language (XML) format based on MISMO Version 3.3. This new file format will replace the existing GinnieNET Single Family Flat File Layout that is currently submitted to Ginnie Mae, to be better aligned to industry standards. The purpose of the Form HUD 11706 is to provide a means of identifying and controlling the mortgages that collateralize the designated MBS pools or loan packages. It provides a certification from the document custodian that certain required mortgage documents are being held by the document custodian on behalf of Ginnie Mae.

Title of Information Collection: Ginnie Mae Mortgage-Backed Securities Programs Reporting and Feedback (RFS) Single Family Issuer Monthly Payment Default Status (PDS) Loan Level Reporting.

OMB Approval Number: 2503-0033.

New/Renewal: New.

Form Number: Appendix VI-22.

The information needed by Ginnie Mae for the participation of issuers/customers in its Mortgage-Backed Securities programs and to monitor performance and compliance with established rules and regulations.

Description of the need for the information and proposed use: Ginnie Mae issuers are required to submit loan level data through a separate Payment Default Status (PDS) record for all single-family loans that are: delinquent as defined in the MBS Guide Chapter 18; where the borrower is in bankruptcy whether or not the borrower is current on loan payments; where the borrower is in forbearance whether or not the borrower is current on loan payments; and/or the borrower is current in mortgage payments and for which the Issuer is pursuing an alternative to foreclosure (e.g., borrower is in imminent default), other than bankruptcy or forbearance. The report, as outlined in the MBS Guide Chapter 17, contains all applicable loans as of the close of the month for which data is presented and must reconcile with the monthly accounting report in the Reporting and Feedback System (RFS).

This loan level data ensures that Ginnie Mae gains granular insight into the state of each Issuer's delinquent and defaulted loan portfolios, which is used to identify those issuers who represent the greatest risk of default, and thus future potential risk of financial loss to Ginnie Mae.

Form | Appendix No. | Title | Number of respondents | Frequency of responses per year | Total annual responses | Hours per response | Total annual hours | Hourly cost per response | Estimated annual cost to respondents (issuers)
11705 | III-6 | Schedule of Subscribers and Ginnie Mae Guaranty Agreement | 366.00 | 12.00 | 4,392.00 | 0.017 | 74.66 | 46.00 | 3,434.54
11706 | III-7 | Schedule of Pooled Mortgages | 366.00 | 12.00 | 4,392.00 | 0.083 | 364.54 | 46.00 | 16,768.66
| Appendix VI-22 | Reporting and Feedback (RFS) Single Family Issuer Monthly Payment Default Status (PDS) Loan Level Reporting | 306.00 | 12.00 | 3,672.00 | 0.10 | 367.20 | 46.00 | 16,891.20
Total |  |  |  |  |  |  | 806.40 |  | 37,094.40

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Sam I. Valverde,
Executive Vice President & Chief Operating Officer.

[FR Doc. 2022-12351 Filed 6-7-22; 8:45 am]

BILLING CODE 4210-67-P